DEPARTMENT OF EDUCATION

[CFDA Nos. 84.305A, 84.305B, 84.324A, 84.324B, and 84.902B]

Institute of Education Sciences; Notice Inviting Applications for Grants To Support Education Research for Fiscal Year (FY) 2007

SUMMARY: The Director of the Institute of Education Sciences (Institute) announces the Institute's FY 2007 competitions for grants to support education research. The Director takes this action under the Education Sciences Reform Act of 2002, Title I of Public Law 107-279. The intent of these grants is to provide national leadership in expanding fundamental knowledge and understanding of education from early childhood education through postsecondary and adult education.

SUPPLEMENTARY INFORMATION:

Mission of Institute

A central purpose of the Institute is to provide parents, educators, students, researchers, policymakers, and the general public with reliable and valid information about education practices that support learning and improve academic achievement and access to education opportunities for all students. In carrying out its mission, the Institute provides support for programs of research in areas of demonstrated national need.

Competitions in This Notice

The Institute will conduct five research competitions in FY 2007 through three of its National Education Centers.

The National Center for Education Research (NCER) will hold two competitions. Under the first competition, NCER will consider only applications that address one of the following education research or research training topics:

• Reading and Writing.

• Mathematics and Science Education.

• Teacher Quality—Reading and Writing.

• Teacher Quality—Mathematics and Science Education.

• Education Leadership.

• Education Policy, Finance, and Systems.

• Postdoctoral Research Training.

Under the second competition, NCER will consider only applications that address one of the following education research topics:

• Reading and Writing.

• Interventions for Struggling Adolescent and Adult Readers.

• Mathematics and Science Education.

• Teacher Quality—Reading and Writing.

• Teacher Quality—Mathematics and Science Education.

• Cognition and Student Learning.

• High School Reform.

• Postsecondary Education.

The National Center for Special Education Research (NCSER) will also hold two competitions. Under the first competition, NCSER will consider only applications that address one of the following special education research topics:

• Early Intervention, Early Childhood Special Education, and Assessment for Young Children with Disabilities.

• Mathematics and Science Education.

• Reading, Writing, and Language Development.

• Serious Behavior Disorders.

• Assessment for Accountability.

Under the second competition, NCSER will consider only applications that address one of the following special education research topics:

• Response to Intervention.

• Autism Spectrum Disorders.

• Teacher Quality and Quality of Other Service Providers for Students with Disabilities.

• Secondary and Transition Services.

• Individualized Education Programs and Individualized Family Service Plans.

The National Center for Education Statistics (NCES) will conduct one competition. Under this competition, NCES will consider only applications that address the following topic:

• Secondary Analysis of Data from the National Assessment of Educational Progress.

Eligible Applicants

Applicants that have the ability and capacity to conduct scientifically valid research are eligible to apply. Eligible applicants include, but are not limited to, non-profit and for-profit organizations and public and private agencies and institutions, such as colleges and universities.

Request for Applications and Other Information

Information regarding program and application requirements for the competitions is contained in the NCER, NCSER, and NCES Request for Applications packages (RFA), which will be available at the following Web site: http://www.ed.gov/about/offices/list/ies/programs.html no later than April 7, 2006. Interested potential applicants should periodically check the Institute's Web site.

Information regarding selection criteria and review procedures will be provided in the RFA package. Information regarding the new Government-wide SF-424 application form for research and research-related activities, which will be used for these competitions, will also be available at the above Web site.

Fiscal Information

Although Congress has not enacted a final appropriation for FY 2007, the Institute is inviting applications for these competitions now so that it may be prepared to make awards following final action on the Department's appropriations bill. The President's FY 2007 Budget for the Institute includes sufficient funding for all of the competitions included in this notice. The actual award of grants will depend on the availability of funds. The number of awards made under each competition will depend upon the quality of the applications received for that competition. The size of the awards will depend upon the scope of the projects proposed.

Applicable Regulations

The Education Department General Administrative Regulations (EDGAR) in 34 CFR parts 74, 77, 80, 81, 82, 84, 85, 86 (part 86 applies only to institutions of higher education), 97, 98, and 99. In addition 34 CFR part 75 is applicable, except for the provisions in 34 CFR 75.100, 75.101(b), 75.102, 75.103, 75.105, 75.109(a), 75.200, 75.201, 75.209, 75.210, 75.211, 75.217, 75.219, 75.220, 75.221, 75.222, and 75.230.

Performance Measures

To evaluate the overall success of its education research program, the Institute annually assesses the quality and relevance of newly funded research projects, as well as the quality of research publications that result from its funded research projects. Two indicators address the quality of new projects. First, external panels of qualified scientists review the quality of new research applications, and the percentage of newly funded projects that receive an average panel score of excellent or higher is determined. Second, because much of the Institute's work focuses on questions of effectiveness, newly funded applications are evaluated to identify those that address causal questions and then to determine what percentage of those projects use randomized field trials to answer the causal questions. To evaluate the relevance of newly funded research projects, a panel of experienced education practitioners and administrators reviews descriptions of a randomly selected sample of newly funded projects and rates the degree to which the projects are relevant to educational practice.

Two indicators address the quality of new research publications, both print and web-based, which are the products of funded research projects. First, an external panel of eminent scientists reviews the quality of a randomly selected sample of new publications, and the percentage of new publications that are deemed to be of high quality is determined. Second, publications that address causal questions are identified and are then reviewed to determine the percentage that employ randomized experimental designs. As funded research projects are completed, the Institute will subject the final reports to similar reviews.

To evaluate impact, the Institute surveys kindergarten through college level policymakers and administrators once every three years to determine the percentage who report routinely considering evidence of effectiveness before adopting educational products and approaches.

Application Procedures

The Government Paperwork Elimination Act (GPEA) of 1998 (Pub. L. 105-277) and the Federal Financial Assistance Management Improvement Act of 1999 (Pub. L. 106-107) encourage us to undertake initiatives to improve our grant processes. Enhancing the ability of individuals and entities to conduct business with us electronically is a major part of our response to these laws. Therefore, we are taking steps to adopt the Internet as our chief means of conducting transactions in order to improve services to our customers and to simplify and expedite our business processes.

We are requiring that applications for the FY 2007 competitions be submitted electronically to the following Web site: https://ies.constellagroup.com. Information on the software to be used in submitting applications will be available at the same Web site.

FOR FURTHER INFORMATION CONTACT: The contact person associated with a particular research competition is listed in the chart at the end of this notice and in the RFA. The date on which applications will be available, the deadline for transmittal of applications, the estimated range of awards, and the project period are also listed in the chart and in the RFA that will be posted at: http://www.ed.gov/about/offices/list/ies/programs.html.

If you use a telecommunications device for the deaf (TDD), you may call the Federal Relay Service (FRS) at 1-800-877-8339.

Individuals with disabilities may obtain this document in an alternative format (e.g., Braille, large print, audiotape, or computer diskette) on request to the program contact person listed under FOR FURTHER INFORMATION CONTACT. Individuals with disabilities may obtain a copy of the RFA in an alternative format by contacting that person.

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.gpoaccess.gov/nara/index.html.

Program Authority: 20 U.S.C. 9501 et seq.

BILLING CODE 4000-01-P

Dated: March 17, 2006.
Grover J. Whitehurst,
Director, Institute of Education Sciences.

[FR Doc. 06-2781 Filed 3-21-06; 8:45 am]

BILLING CODE 4000-01-C